DEPARTMENT OF HEALTH AND HUMAN SERVICES

Centers for Disease Control and Prevention

[60 Day-15-15BFD; Docket No, CDC-2015-0082]

Proposed Data Collection Submitted for Public Comment and Recommendations

AGENCY: Centers for Disease Control and Prevention (CDC), Department of Health and Human Services (HHS).

ACTION: Notice with comment period.

SUMMARY: The Centers for Disease Control and Prevention (CDC), as part of its continuing efforts to reduce public burden and maximize the utility of government information, invites the general public and other Federal agencies to take this opportunity to comment on proposed and/or continuing information collections, as required by the Paperwork Reduction Act of 1995. This notice invites comment on the proposed collection Active Monitoring of Travelers Coming from Ebola-affected Countries and Their Contacts Currently Residing in State, Territorial, and Local Jurisdictions.

DATES: Written comments must be received on or before November 20, 2015.

ADDRESSES: You may submit comments, identified by Docket No. CDC-2015-0082 by any of the following methods:

• Federal eRulemaking Portal: Regulation.gov. Follow the instructions for submitting comments.

• Mail: Leroy A. Richardson, Information Collection Review Office, Centers for Disease Control and Prevention, 1600 Clifton Road NE., MS-D74, Atlanta, Georgia 30329.

Instructions: All submissions received must include the agency name and Docket Number. All relevant comments received will be posted without change to Regulations.gov, including any personal information provided. For access to the docket to read background documents or comments received, go to Regulations.gov.

Please note: All public comment should be submitted through the Federal eRulemaking portal (Regulations.gov) or by U.S. mail to the address listed above.

FOR FURTHER INFORMATION CONTACT: To request more information on the proposed project or to obtain a copy of the information collection plan and instruments, contact the Information Collection Review Office, Centers for Disease Control and Prevention, 1600 Clifton Road NE., MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Proposed Project

Active Monitoring of Travelers Coming from Ebola-affected Countries and Their Contacts Currently Residing in State, Territorial, and Local Jurisdictions—New—Office of Emergency Preparedness and Response (OPHPR); Centers for Disease Control and Prevention (CDC).

Background and Brief Description

The Centers for Disease Control and Prevention (CDC) is seeking Office of Management and Budget (OMB) clearance for 3 years to allow the agency to effectively complement its ongoing international and travel-related efforts for rapid case identification, contact tracing, and infection control of Ebola virus disease (EVD) now within the United States.

CDC is requesting an approval to receive daily and weekly active monitoring reports from any, or as many as, 62 state and local health departments (SLHDs) involved in active monitoring of EVD in their jurisdictions. This information collection is currently approved via an emergency review under OMB Approval number 0920-1066, which expires on 11/30/2015. These 62 health departments are all awardees of CDC's Public Health Emergency Preparedness (PHEP) cooperative agreement (CDC-RFA-TP12-1201). This information collection is authorized under Section 319C-1 of the Public Health Service Act (42 U.S.C. 241), as amended by the Pandemic and All-Hazards Preparedness Reauthorization Act of 2013 (PAHPRA, Public Law 113-5).

Travelers coming from Ebola-affected countries are screened by U.S. Quarantine Stations upon entry into the United States, and are classified into one of four risk categories according to the CDC's “Interim Guidance for Monitoring and Movement of Persons with Potential Ebola Virus Exposure.” These risk categories are “high risk”, “some risk”, “low (but not zero) risk” and “no identifiable risk.” The travelers' risk classification information is transmitted by the U.S. Quarantine Stations to the state, territorial, or local jurisdictions which the travelers declare as their final destination. At this point, the state and local health departments (SLHDs) begin active monitoring of these travelers and their contacts for the development of EVD for 21 days.

For those persons who are identified during entry screening as being at “high risk”, “some risk,” or who are returning healthcare workers at “low, but not zero, risk,” SLHDs are responsible for ensuring that a public health authority (or delegate for healthcare workers) conducts direct active monitoring (DAM) by directly observing each person at least once daily to review the presence of symptoms consistent with EVD; and discussing plans to work, travel, take public conveyances, or be present in congregate locations.

For non-healthcare workers assessed as being at “low, but not zero, risk”, SLHDs are responsible for conducting active monitoring (AM) by receiving daily reports of temperature monitoring and symptoms from these persons.

The CDC will provide the reporting forms which will require a minimum number of data fields to be updated daily or weekly until active monitoring is no longer necessary. The respondents are reporting this information as part of their official duties as CDC cooperative agreement awardees. There are no costs to respondents other that their time. The total estimated annualized burden hours are 2,359.

Type of respondent | Form name | Number of respondents | Number of responses per respondent | Average burden per response (in hours) | Total burden hours
State and Local Health Departments | Daily Direct Active Monitoring (DAM) Recording and CDC Reporting Form (Excel) | 25 | 365 | 5/60 | 760
| Daily Direct Active Monitoring (DAM) Recording and CDC Reporting (email) | 12 | 365 | 4/60 | 292
| Daily Direct Active Monitoring (DAM) Recording and CDC Reporting Form (Web) | 25 | 365 | 4/60 | 608
| Weekly Active Monitoring (AM) CDC Reporting Form (Web) | 62 | 52 | 13/60 | 699
Total |  |  |  |  | 2,359

Leroy A. Richardson,
Chief, Information Collection Review Office, Office of Scientific Integrity, Office of the Associate Director for Science, Office of the Director, Centers for Disease Control and Prevention.

[FR Doc. 2015-23567 Filed 9-18-15; 8:45 am]

BILLING CODE 4163-18-P